DEPARTMENT OF DEFENSE

Office of the Secretary

Cancellation Notice for the Advisory Council on Dependents' Education Meeting

AGENCY: Department of Defense Education Activity (DoDEA), DoD.

ACTION: Notice.

SUMMARY: The meeting of the Department of Defense Advisory Council on Dependents' Education announced on March 1, 2011 (76 FR 11211) under the provisions of the Federal Advisory Committee Act of 1972 (5 U.S.C., Appendix, as amended), and scheduled to occur on Friday, April 22, 2011, 7 a.m. to 12 p.m. Japan Standard Time has been cancelled.

FOR FURTHER INFORMATION CONTACT: Dr. Steve Schrankel at (703) 588-3109 or Steve.Schrankel@hq.dodea.edu.

Dated: April 6, 2011.
Morgan F. Park,
Alternate OSD Federal Register Liaison Officer, Department of Defense.

[FR Doc. 2011-8634 Filed 4-11-11; 8:45 am]

BILLING CODE 5001-06-P